DEPARTMENT OF TRANSPORTATION

Federal Aviation Administration

Public Notice for Waiver of Aeronautical Land-Use Assurance

AGENCY: Federal Aviation Administration (FAA), DOT.

ACTION: Notice of intent of waiver with respect to land; General Mitchell International Airport, Milwaukee, Wisconsin.

SUMMARY: The FAA is considering a proposal to change 0.059 acres of airport land from aeronautical use to non-aeronautical use and to authorize the disposal of airport property located at General Mitchell International Airport, Milwaukee, Wisconsin. The aforementioned land is no longer needed for aeronautical use.

The property is located on the east side of Howell Avenue immediately south of Layton Avenue. The property is a 12 foot wide portion of airport property which has long been used as roadway setback, and is no longer needed for aeronautical purposes. Upon release, the land will be disposed of for sidewalk/roadway Right-of-Way.

DATES: Comments must be received on or before August 17, 2016.

ADDRESSES: Documents are available for review by appointment at the FAA Chicago Airports District Office, Michael Ferry, Program Manager, 2300 East Devon Avenue, Des Plaines, IL 60018, Telephone: (847) 294-8251/Michael.Ferry@faa.gov; or at the General Mitchell International Airport, Timothy Karaskiewicz, 5300 South Howell Avenue, Milwaukee, WI 53207, 414-747-5712.

Written comments on the Sponsor's request must be delivered or mailed to: Michael Ferry, Program Manager, Federal Aviation Administration, Chicago Airports District Office, 2300 East Devon Avenue, Des Plaines, IL 60018, Telephone Number: (847) 294-8251/FAX Number: (847) 294-7046.

FOR FURTHER INFORMATION CONTACT: Michael Ferry, Program Manager, Federal Aviation Administration, Chicago Airports District Office, 2300 East Devon Avenue, Des Plaines, IL 60018. Telephone Number: (847) 294-8251/Michael.Ferry@faa.gov/FAX Number: (847) 294-7046.

SUPPLEMENTARY INFORMATION:

In accordance with section 47107(h) of Title 49, United States Code, this notice is required to be published in the Federal Register 30 days before modifying the land-use assurance that requires the property to be used for an aeronautical purpose.

The property is a 12 foot wide portion of airport property and has long been used for road frontage and not needed for aeronautical purpose. It cannot be used for airport access given its close proximity to the intersection of Layton and Howell avenues. The land was acquired as airport property from a private party in 1941. The airport plans to dispose of the property upon release.

The disposition of proceeds from the sale of the airport property will be in accordance with FAA's Policy and Procedures Concerning the Use of Airport Revenue, published in the Federal Register on February 16, 1999 (64 FR 7696).

This notice announces that the FAA is considering the release of the subject airport property at the General Mitchell International Airport, Milwaukee, Wisconsin, from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Description of a portion of Lot 1 in Otte's Subdivision, a recorded subdivision, in the Northwest ¼ of Section 28, Township 6 North, Range 22 East, described as follows:

Commencing at the point of intersection of the present southerly line of East Layton Avenue and the present east line of South Howell Avenue, said point lying 195.00 feet south of, as measured normal to, the north line of said ¼ section and 60.00 feet east of, as measured normal to, the west line of said ¼ section; thence Southerly, along said present east line, 245.00 feet to a point; thence Northeasterly to a point lying 12.00 feet east of, as measured normal to, said present east line and 365.00 feet south of, as measured normal to, the north line of said ¼ section; thence Northerly, parallel to said present east line, to a point in the present southerly line of East Layton Avenue; thence Southwesterly, along said present southerly line, to the point of commencement.

Issued in Des Plaines, Illinois, on July 7, 2016.
Jim Keefer,
Manager, Chicago Airports District Office, FAA, Great Lakes Region.

[FR Doc. 2016-16937 Filed 7-15-16; 8:45 am]

BILLING CODE 4910-13-P